DEPARTMENT OF ENERGY

Federal Energy Regulatory Commission

Combined Notice of Filings #2

Take notice that the Commission received the following electric rate filings:

Docket Numbers: ER15-2432-000.

Applicants: Southwest Power Pool, Inc.

Description: Section 205(d) Rate Filing: 1893R4 Westar Energy, Inc. (Savonburg) NITSA and NOA to be effective 8/1/2015.

Filed Date: 8/13/15.

Accession Number: 20150813-5178.

Comments Due: 5 p.m. ET 9/3/15.

Docket Numbers: ER15-2433-000.

Applicants: Southwest Power Pool, Inc.

Description: Section 205(d) Rate Filing: 1897R4 Westar Energy, Inc. NITSA and NOA to be effective 8/1/2015.

Filed Date: 8/13/15.

Accession Number: 20150813-5180.

Comments Due: 5 p.m. ET 9/3/15.

Docket Numbers: ER15-2434-000.

Applicants: Southwest Power Pool, Inc.

Description: Section 205(d) Rate Filing: 1978R4 Westar Energy, Inc. NITSA and NOA to be effective 8/1/2015.

Filed Date: 8/13/15.

Accession Number: 20150813-5185.

Comments Due: 5 p.m. ET 9/3/15.

Docket Numbers: ER15-2435-000.

Applicants: Midcontinent Independent System Operator, Inc.

Description: Section 205(d) Rate Filing: 2015-08-13_SA 2793 ATC-City of Eagle River CFA to be effective 10/12/2015.

Filed Date: 8/13/15.

Accession Number: 20150813-5186.

Comments Due: 5 p.m. ET 9/3/15.

Docket Numbers: ER15-2436-000.

Applicants: Midcontinent Independent System Operator, Inc.

Description: Section 205(d) Rate Filing: 2015-08-13_SA 2796 ATC-City of Kaukauna CFA to be effective 10/12/2015.

Filed Date: 8/13/15.

Accession Number: 20150813-5187.

Comments Due: 5 p.m. ET 9/3/15.

Docket Numbers: ER15-2437-000.

Applicants: Midcontinent Independent System Operator, Inc.

Description: Section 205(d) Rate Filing: 2015-08-13_SA 2805 ATC-Rock Energy Cooperative CFA to be effective 10/12/2015.

Filed Date: 8/13/15.

Accession Number: 20150813-5188.

Comments Due: 5 p.m. ET 9/3/15.

Docket Numbers: ER15-2438-000.

Applicants: Midcontinent Independent System Operator, Inc.

Description: Section 205(d) Rate Filing: 2015-08-13_SA 2806 ATC-City of Oconomowoc CFA to be effective 10/12/2015.

Filed Date: 8/13/15.

Accession Number: 20150813-5193.

Comments Due: 5 p.m. ET 9/3/15.

Docket Numbers: ER15-2439-000.

Applicants: Southwest Power Pool, Inc.

Description: Section 205(d) Rate Filing: 2390R3 Westar Energy, Inc. NITSA and NOA to be effective 8/1/2015.

Filed Date: 8/13/15.

Accession Number: 20150813-5196.

Comments Due: 5 p.m. ET 9/3/15.

Docket Numbers: ER15-2440-000.

Applicants: PJM Interconnection, L.L.C., Rochelle Municipal Utilities.

Description: Section 205(d) Rate Filing: Rochelle Municipal Utilities submit Service Agreement No. 4232 with ComEd to be effective 8/1/2015.

Filed Date: 8/13/15.

Accession Number: 20150813-5217.

Comments Due: 5 p.m. ET 9/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2015.
Kimberly D. Bose,
Secretary.

[FR Doc. 2015-20461 Filed 8-18-15; 8:45 am]

BILLING CODE 6717-01-P